DEPARTMENT OF VETERANS AFFAIRS

[OMB Control No. 2900-NEW]

Agency Information Collection Activity: Veteran Self-Check Assessment (SCA)

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before November 28, 2022.

ADDRESSES: Submit written comments on the collection of information through Federal Docket Management System (FDMS) at www.Regulations.gov or to Janel Keyes, Office of Regulations, Appeals, and Policy (10BRAP), Department of Veterans Affairs, 810 Vermont Avenue NW, Washington, DC 20420 or email to Janel.Keyes@va.gov. Please refer to “OMB Control No. 2900-NEW” in any correspondence. During the comment period, comments may be viewed online through FDMS.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-NEW” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Veteran Self-Check Assessment (SCA).

OMB Control Number: 2900-NEW.

Type of Review: New collection.

Abstract: The Veterans Crisis Line (VCL) Chat program allows Veterans, along with their families and friends, to interact online, anonymously, through chat services with a trained VCL Responder. The VCL Chat program is available to all Veterans who may or may not be enrolled in the VA health care system and provides them with online access to the VCL and the VA's suicide prevention services. For many Veterans, their first contact with VHA is through this program. To help facilitate Veterans' utilization of the Chat program and enhance the Chat Responders' ability to understand and respond effectively to Veteran-users, the VCL has implemented the Self-Check Assessment (SCA).

The SCA is an online, confidential, and anonymous risk assessment tool for U.S. Veterans, Active-Duty Service Members (ADSM), members of the National Guard and Reserves or family members of someone in one of those groups. The SCA tool is used to seamlessly link Veterans and their families with the VCL Chat program. At no point is the respondent asked to give their name or any other identifying information. The respondent is assigned a unique identifying number called a “Reference Code” that they use to get the VCL Responder's response to their SCA. The participant answers to the SCA are collected, and the program automatically calculates and lists their risk Tier based on their responses. The VCL Responder then reviews the SCA answers and sends a message to the participant, which they receive using their “Reference Code.” This messaging encourages the individual to connect to a VCL Responder via an online chat link on the page. The VCL Responder will engage the participant in exploring any service needs they may have and direct them on how they might benefit from VA or community-based services.

Affected Public: Individuals and households.

Estimated Annual Burden: 1,964 hours.

Estimated Average Burden per Respondent: 10 minutes.

Frequency of Response: On occasion.

Estimated Number of Respondents: 11,783.

By direction of the Secretary.
Dorothy Glasgow,
VA PRA Clearance Officer, Office of Enterprise and Integration/Data Governance Analytics, Department of Veterans Affairs.

[FR Doc. 2022-21040 Filed 9-28-22; 8:45 am]

BILLING CODE 8320-01-P